DEPARTMENT OF COMMERCE

International Trade Administration

A-570-868

Notice of Extension of Time Limit for Final Results of Antidumping Duty Review: Certain Folding Metal Tables and Chairs from the People's Republic of China

AGENCY: Import Administration, International Trade Administration, Department of Commerce.

EFFECTIVE DATE: August 17, 2004.

FOR FURTHER INFORMATION CONTACT: Anya Naschak at (202) 482-6375 or James Nunno at (202) 482-0783; Antidumping and Countervailing Duty Enforcement Group III, Import Administration, International Trade Administration, U.S. Department of Commerce, 14th Street and Constitution Avenue, N.W., Washington, D.C. 20230.

SUPPLEMENTARY INFORMATION:

Background

On June 27, 2002, the Department of Commerce (“the Department”) published the antidumping duty order on folding metal tables and chairs (“FMTC”) from the People's Republic of China (“PRC”). See Antidumping Duty Order: Folding Metal Tables and Chairs From the People's Republic of China, 67 FR 43277 (June 27, 2002). On June 2, 2003, the Department published an opportunity to request an administrative review of the antidumping duty order on FMTC from the PRC for the period December 3, 2001, through May 31, 2003 (68 FR 32727). On June 30, 2003, the Department received a timely request from Meco Corporation (“petitioner”) requesting that the Department conduct an administrative review of the antidumping duty order on FMTC exported to the United States from the following PRC producers/exporters: Feili Furniture Development Co., Ltd and Feili (Fujian) Co., Ltd (“Feili”), New-Tec Integration Co., Ltd. (“New-Tec”), and Dongguang Shichang Metals Factory, Ltd. (“Shichang”).

On June 26, 2003, EJ Footwear requested that the Department conduct an administrative review of entries of subject merchandise made by Shichang. On June 16, 2003, we received a timely request from Wok and Pan Industry, Inc. (“Wok & Pan”) requesting that the Department conduct an administrative review of its FMTC shipments to the United States. On July 29, 2003, the Department initiated the first administrative review of the antidumping duty order on FMTC from the PRC, for the period of December 3, 2001, through May 31, 2003, in order to determine whether merchandise imported into the United States is being sold below normal value with respect to these four companies. See Notice of Initiation of Antidumping and Countervailing Duty Administrative Reviews, Requests for Revocation in Part and Deferral of Administrative Reviews, 68 FR 44524, July 29, 2003 (“Initiation Notice”)

On October 27, 2003, petitioner filed a letter withdrawing their request for review for Feili Group and New-Tec. Because petitioner had withdrawn its request within the time limits set by 19 CFR 351.213(d)(1), the Department rescinded its review of Feili Group and New-Tec on November 26, 2003. See Certain Folding Metal Tables and Chairs from the People's Republic of China: Notice of Partial Rescission of First Antidumping Duty Administrative Review, 68 FR 66397 (November 26, 2003).

On January 15, 2004, the Department extended the due date for the preliminary results of this review. See Notice of Extension of Preliminary Results of Antidumping Duty Review: Certain Folding Metal Tables and Chairs from the People's Republic of China, 69 FR 2329 (January 15, 2004). On July 6, 2004, the Department published the preliminary results of this review. See Folding Metal Tables and Chairs From the People's Republic of China: Preliminary Results of First Antidumping Duty Administrative Review, 69 FR 40602 (July 6, 2004).

Extension of Time Limit for Final Results

Pursuant to section 751(a)(3)(A) of the Act, the Department may extend the deadline for completion of the final results of an administrative review if it determines that it is not practicable to complete the final results within the statutory time limit of 120 days from the date on which the preliminary results were published. The Department has determined that it is not practicable to complete the final results of this review within the statutory time limit. Due to the complications arising from scheduling conflicts and requests for time extensions by interested parties, it is not practicable to complete this review within the time limits mandated by section 751(a)(3)(A) of the Act and section 19 CFR 351.213(h)(1) of the Department's regulations. Therefore, the Department is extending the time limit for the completion of these final results by 40 days. Accordingly, the final results will now be due no later than December 13, 2004.

This notice is published in accordance with section 751(1)(3)(A) of the Act and section 19 CFR 351.213(h)(2) of the Department's regulations.

Dated: August 10, 2004.
Jeffrey A. May,
Deputy Assistant Secretary for Import Administration.

[FR Doc. 04-18813 Filed 8-16-04; 8:45 am]

BILLING CODE 3510-DS-S